DEPARTMENT OF COMMERCE

National Oceanic and Atmospheric Administration

Federal Consistency Appeal by Barnes Nursery, Inc. From an Objection by the Ohio Department of Natural Resources

AGENCY: National Oceanic and Atmospheric Administration, Commerce.

ACTION: Notice of closure—administrative appeal decision record.

SUMMARY: This announcement provides notice that the appeal record has been closed for an administrative appeal filed with the Department of Commerce by Barnes Nursery, Inc.

DATES: The appeal record for the Barnes Nursery, Inc. administrative appeal will close as of the date of publication of this notice.

ADDRESSES: Materials from the appeal record are available at the Internet site http://www.ogc.doc.gov/czma.htm and at the Office of the General Counsel for Ocean Services, National Oceanic and Atmospheric Administration, U.S. Department of Commerce, 1305 East-West Highway, Room 6111, Silver Spring, MD 20910.

FOR FURTHER INFORMATION CONTACT: Molly Holt, Attorney-Adviser, Office of the Assistant General Counsel for Ocean Services, National Oceanic and Atmospheric Administration, U.S. Department of Commerce, 1305 East-West Highway, Room 6111, Silver Spring, MD 20910 or at (301) 713-2967, extension 215.

SUPPLEMENTARY INFORMATION: On July 10, 2001, Barnes Nursery, Inc. (Appellant) filed a notice of appeal with the Secretary of Commerce (Secretary) pursuant to section 307(c)(3)(A) of the Coastal Zone Management Act of 1972, as amended, 16 U.S.C. 1451 et seq., (CZMA) and the Department of Commerce's implementing regulations, 15 CFR part 930, subpart H (revised, effective January 8, 2001). The appeal is taken from an objection by the Ohio Department of Natural Resources (State) to the Appellant's consistency certification for a U.S. Army Corps of Engineers after-the-fact permit to maintain an excavated channel and berm system intended to store water for agricultural purposes. This project is located in Erie County, Ohio adjacent to East Sandusky Bay.

The decision of the Secretary is based on information and documents contained in the administrative record. The Barnes Nursery appeal administrative decision record includes materials submitted by the parties, the public and interested Federal agencies. It is expected that no further information, briefs or comments will be considered in deciding the appeal.

The CZMA requires that a notice be published in the Federal Register indicating the date on which the decision record has been closed. A final decision on the Barnes Nursery appeal is to be issued no later than 90 days after the date of the publication of this notice. 16 U.S.C. 1465(a). The deadline may be extended by publishing (within the 90-day period) a subsequent notice explaining why a decision cannot be issued within the time frame. In this event, a final decision is to be issued no later than 45 days after the date of publication of the subsequent notice. 16 U.S.C. 1465(b).

Additional information about the Barnes Nursery appeal and the CZMA process is available from the Department of Commerce CZMA appeals Web site http:/www.ogc.doc.gov/czma.htm.

Dated: October 21, 2003.
James R. Walpole,
General Counsel.

[Federal Domestic Assistance Catalog No. 11.419 Coastal Zone Management Program Assistance.]

[FR Doc. 03-27220 Filed 10-28-03; 8:45 am]

BILLING CODE 3510-08-M